DEPARTMENT OF AGRICULTURE

Forest Service

Wrangell-Petersburg Resource Advisory Committee

AGENCY: Forest Service, USDA.

ACTION: Notice of meeting.

SUMMARY: The Wrangell-Petersburg Resource Advisory Committee (RAC) will meet beginning at 8 a.m. on Friday, January 17 through noon, Saturday, January 18, 2003, in Wrangell, Alaska. The purpose of this meeting is to review and discuss proposals for funding under Title II, Public Law 106-393, H.R. 2389, the Secure Rural Schools and Community Self-Determination Act of 2000, also called the “Payments to States” Act. Public testimony regarding the proposals will also be taken.

DATES: The meeting will be held commencing at 8 a.m. on Friday, January 17 through noon, Saturday, January 18, 2003.

ADDRESSES: The meeting will be held at Harding's Old Sourdough Lodge, 1104 Peninsula, Wrangell, Alaska.

FOR FURTHER INFORMATION CONTACT: Chip Weber, Wrangell District Ranger, PO Box 51, Wrangell, AK 99929, phone (907) 874-2323, e-mail cweber@fs.fed.us, or Patty Grantham, Petersburg District Ranger, PO Box 1328, Petersburg, AK 99833, phone (907) 772-3871, e-mail pagrantham@fs.fed.us. For further information on RAC history, operations, and the application process, a website is available at www.fs.fed.us/r10/payments.

SUPPLEMENTARY INFORMATION: This will be the second meeting of the committee, and will focus on the review and discussion of proposals received by the RAC for funding under Title II of the payments to States legislation (Pub. L. 106-393). Deadline for proposals during this round of funding consideration is January 6, 2003. No proposals will be recommended for funding at their initial reading. The meeting is open to the public. Public input opportunity will be provided and individuals will have the opportunity to address the committee at that time.

Dated: December 18, 2002.
Scott Fitzwilliams,
Acting Forest Supervisor.

[FR Doc. 02-32528 Filed 12-24-02; 8:45 am]

BILLING CODE 3410-11-M